DEPARTMENT OF THE INTERIOR

Bureau of Land Management

[LLNV952000 L14400000.BJ0000.LXSSF2210000.241A; 13-08807; MO #4500124382; TAS: 14X1109]

Filing of Plats of Survey; NV

AGENCY: Bureau of Land Management, Interior.

ACTION: Notice.

SUMMARY: The purpose of this notice is to inform the public and interested State and local government officials of the filing of Plats of Survey in Nevada.

DATES: Unless otherwise stated filing is applicable at 10:00 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Supplemental Plat of the following described lands was officially filed at the Bureau of Land Management (BLM) Nevada State Office, Reno, Nevada on April 04, 2018:

The supplemental plat, in one sheet, showing a subdivision of lots 2, 3, and 4, section 34, Township 20 South, Range 54 East, Mount Diablo Meridian, Nevada, under Group No. 981, was accepted April 3, 2018. This supplemental plat was prepared to meet certain administrative needs of the Bureau of Land Management.

2. The Plat of Survey of the following described lands was officially filed at the Bureau of Land Management (BLM) Nevada State Office, Reno, Nevada on April 12, 2018:

The plat, in one sheet, representing the dependent resurvey of a portion of the south boundary and a portion of the subdivisional lines, and the subdivision of section 33 and a metes-and-bounds survey of the easterly and westerly right-of-way lines of the Nevada Northern Railway Hiline through a portion of section 33, Township 18 North, Range 64 East, Mount Diablo Meridian, Nevada, under Group No. 854, was accepted on April 09, 2018. This survey was executed to meet certain administrative needs of the Bureau of Land Management.

3. The Plat of Survey of the following described lands was officially filed at the Bureau of Land Management (BLM) Nevada State Office, Reno, Nevada on May 04, 2018:

The plat, in one sheet, representing the entire records of the corrective dependent resurvey of a portion of the south boundary, Township 43 North, Range 26 East, Mount Diablo Meridian, Nevada, under Group No. 970, was accepted on May 03, 2018. This survey was executed to meet certain administrative needs of the Bureau of Land Management.

4. The Plat of Survey of the following described lands was officially filed at the Bureau of Land Management (BLM) Nevada State Office, Reno, Nevada on May 04, 2018:

The plat in two sheets, representing the entire records of the dependent resurvey of a portion of the subdivisional lines, and Mineral Survey No. 4864, Township 42 North, Range 62 East, Mount Diablo Meridian, Nevada, under Group No. 969, was accepted on May 02, 2018. This survey was executed to meet certain administrative needs of the Bureau of Land Management.

5. The Plat of the following described lands was officially filed at the Bureau of Land Management (BLM) Nevada State Office, Reno, Nevada on May 11, 2018:

The plat in one sheet, representing the dependent resurvey of a portion of the subdivisional lines, Township 7 South, Range 56 East, Mount Diablo Meridian, Nevada, under Group No. 980, was accepted on May 09, 2018. This survey was executed to meet certain administrative needs of the Bureau of Land Management.

6. The Supplemental Plat of the following described lands was officially filed at the Bureau of Land Management (BLM) Nevada State Office, Reno, Nevada on June 18, 2018:

The supplemental plat in one sheet, showing the subdivision of lots 15 and 16, section 20, Township 19 South, Range 62 East, Mount Diablo Meridian, Nevada, under Group No. 985, was accepted June 14, 2018. This supplemental plat was prepared to meet certain administrative needs of the Bureau of Land Management.

The survey and supplemental plats listed above, are now the basic record for describing the lands for all authorized purposes. These records have been placed in the open files in the BLM Nevada State Office and are available to the public as a matter of information. Copies of the surveys and related field notes may be furnished to the public upon payment of the appropriate fees.

Dated: August 9, 2018.
Michael O. Harmening,
Chief Cadastral Surveyor for Nevada.

[FR Doc. 2018-17608 Filed 8-14-18; 8:45 am]

BILLING CODE 4310-HC-P